DEPARTMENT OF DEFENSE

Office of the Secretary

Reserve Forces Policy Board (RFPB); Notice of Meeting

AGENCY: Reserve Forces Policy Board, Office of the Secretary of Defense, Department of Defense.

ACTION: Notice of advisory committee meeting.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Reserve Forces Policy Board (RFPB) will take place.

DATES: Wednesday, September 5, 2012, from 8 a.m. to 4:10 p.m.

ADDRESSES: The address for the open session of the meeting is the Fort Myer Officers' Club, Arlington, VA 22211. The closed session address is the Pentagon, Room 3E863, Arlington, VA.

FOR FURTHER INFORMATION CONTACT: CDR Steven Knight, Designated Federal Officer, (703) 681-0608 (Voice), (703) 681-0002 (Facsimile), RFPB@osd.mil. Mailing address is Reserve Forces Policy Board, 5113 Leesburg Pike, Suite 601, Falls Church, VA 22041. Web site: http://ra.defense.gov/rfpb/.

SUPPLEMENTARY INFORMATION: Purpose of the Meeting: The purpose of the meeting is obtain, review and evaluate information related to strategies, policies, and practices designed to improve and enhance the capabilities, efficiency, and effectiveness of the reserve components.

Agenda: The Reserve Forces Policy Board will hold a meeting from 8 a.m. until 4:10 p.m. The portion of the meeting from 3:15 p.m. until 4:10 p.m. will be closed and is not open to the public. The open portion of the meeting will consist of administrative details, remarks from the Under Secretary of Defense (Personnel & Readiness) on her role as the RFPB's sponsor and the future role of the Reserve Components (RC) within the Department of Defense (DoD); from the Director, Cost Assessment and Program Evaluation on today's fiscal challenges facing DoD and future implications for the out year Future Year Defense Program; from the Adjutant Generals of California and Wisconsin on their views of AC/RC mix considerations, and roles and missions; an update on the RFPB's Cost Methodology Project; and RFPB subcommittee briefs. The closed session of the meeting will consist of the Secretary of Defense discussing RC readiness, capability shortfalls, roles and missions and future composition of the Active and Reserve Component.

Meeting Accessibility: Pursuant to 5 U.S.C. 552b, as amended, and 41 CFR 102-3.140 through 102-3.165, and the availability of space, the open portion of the meeting is open to the public. To request a seat for the open portion of the meeting, interested persons must email or phone the Designated Federal Officer not later than August 30, 2012 as listed in FOR FURTHER INFORMATION CONTACT. In accordance with section 10(d) of the Federal Advisory Committee Act, Public Law 92-463, as amended (5 U.S.C. App. 2), 5 U.S.C. 552b, and 41 CFR 102-3.155, the Department of Defense has determined that the portion of this meeting from 3:15 p.m. until 4:10 p.m. will be closed to the public. Specifically, the Under Secretary of Defense (Personnel and Readiness), with the coordination of the DoD FACA Attorney, has determined in writing that this portion of the meeting will be closed to the public because it will discuss matters covered by 5 U.S.C. 552b(c)(1).

Written Statements: Pursuant to 41 CFR 102-3.105(j) and 102-3.140 and section 10(a)(3) of the Federal Advisory Committee Act, interested persons may submit written statements to the Reserve Forces Policy Board at any time. Written statements should be submitted to the Reserve Forces Policy Board's Designated Federal Officer at the address or facsimile number listed in FOR FURTHER INFORMATION CONTACT. If statements pertain to a specific topic being discussed at a planned meeting, then these statements must be submitted no later than five (5) business days prior to the meeting in question. Written statements received after this date may not be provided to or considered by the Reserve Forces Policy Board until its next meeting. The Designated Federal Officer will review all timely submitted written statements and provide copies to all the committee members before the meeting that is the subject of this notice.

Dated: August 15, 2012.
Aaron Siegel,
Alternate OSD Federal Register Liaison Officer, Department of Defense.

[FR Doc. 2012-20416 Filed 8-17-12; 8:45 am]

BILLING CODE 5001-06-P